ENVIRONMENTAL PROTECTION AGENCY

[FRL-9104-2]

Science Advisory Board Staff Office Notification of a Public Meeting of the Science Advisory Board Committee on Science Integration for Decisionmaking

AGENCY: Environmental Protection Agency (EPA).

ACTION: Notice.

SUMMARY: The Environmental Protection Agency (EPA or Agency) Science Advisory Board (SAB) Staff Office announces a public meeting of the SAB Committee on Science Integration for Decision Making.

DATES: The meeting dates are February 10, 2010 from 9 a.m. to 5 p.m. and February 11, 2010 from 8:30 a.m. to 1 p.m. (Eastern Time).

ADDRESSES: The meeting will be held in the Science Advisory Board Conference Center, 1025 F Street, NW., Suite 3705, Washington, DC 20004.

FOR FURTHER INFORMATION CONTACT: Members of the public who wish to obtain further information about this meeting must contact Dr. Angela Nugent, Designated Federal Officer (DFO). Dr. Nugent may be contacted at the EPA Science Advisory Board (1400F), U.S. Environmental Protection Agency, 1200 Pennsylvania Avenue, NW., Washington, DC 20460; or via telephone/voice mail; (202) 343-9981; fax (202) 233-0643; or e-mail at nugent.angela@epa.gov. General information about the EPA SAB, as well as any updates concerning the public meeting announced in this notice, may be found on the SAB Web site at http://www.epa.gov/sab.

SUPPLEMENTARY INFORMATION: Pursuant to the Federal Advisory Committee Act, 5 U.S.C., App. 2 (FACA), notice is hereby given that the SAB Committee on Science Integration for Decision Making will hold a public meeting to discuss the results of fact-finding activities conducted as part of a study of science integration supporting EPA decision making. The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

Background: The Committee for Science Integration for Decision Making met on June 9-10, 2009 in Washington, DC to begin its work on this study (see 74 FR 23187). The committee held a public teleconference on September 16, 2009 to discuss a draft work plan for the study (74 FR 43696-43697), which included fact-finding discussions with EPA program and regional offices. Additional information on the study and the committee's activities meeting may be found on the SAB Web site at http://yosemite.epa.gov/sab/sabproduct.nsf/fedrgstr_activites/Science%20Integration?OpenDocument.

At the upcoming public meeting, the committee will discuss the results of the fact-finding discussions and determine next steps to complete the evaluative study.

Availability of Meeting Materials: The agenda and other material in support of this upcoming meeting are posted on the SAB Web site at http://www.epa.gov/sab.

Procedures for Providing Public Input: Interested members of the public may submit relevant written or oral information on the topic of this advisory activity for the SAB to consider during the advisory process. Oral Statements: In general, individuals or groups requesting an oral presentation at a public meeting will be limited to three minutes per speaker, with no more than a total of one hour for all speakers. Interested parties should contact Dr. Nugent, DFO, in writing (preferably via e-mail) at the contact information noted above, by February 3, 2010 be placed on a list of public speakers for the meeting. Written Statements: Written statements should be received in the SAB Staff Office by February 3, 2010 so that the information may be made available to the SAB committee members for their consideration. Written statements should be supplied to the DFO in the following formats: one hard copy with original signature, and one electronic copy via e-mail (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Dr. Nugent at the phone number or e-mail address noted above, preferably at least ten days prior to the meeting to give EPA as much time as possible to process your request.

Dated: January 11, 2010.
Anthony F. Maciorowski,
Deputy Director, EPA Science Advisory Board Staff Office.

[FR Doc. 2010-691 Filed 1-14-10; 8:45 am]

BILLING CODE 6560-50-P